DEPARTMENT OF COMMERCE

National Telecommunications and Information Administration

Agency Information Collection Activities; Submission for OMB Review; Comment Request; Public Wireless Supply Chain Innovation Fund Grant Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 17, 2023 during a 60-day comment period. This notice allows for an additional 30 days for public comments.

Agency: National Telecommunications and Information Administration (NTIA), Commerce.

Title: Public Wireless Supply Chain Innovation Fund Grant Program.

OMB Control Number: 0660-XXXX.

Form Number(s): None.

Type of Request: Regular. New information collection.

Number of Respondents: 22.

Average Hours per Response: 20.

Burden Hours: 440.

Needs and Uses: With this information collection, NTIA will be able to monitor the grant recipients' spending habits and activities. In the absence of collecting this information, NTIA would fail to evaluate the grant recipients' progress toward the grant program priority areas and program goals. Moreover, without these reports, the grants could be the subject of waste, fraud, and abuse of Federal funds. Therefore, it is necessary for the Agencies to collect information using the Baseline Report form.

Affected Public: Grant award recipients.

Frequency: Once at the beginning of the award period.

Respondent's Obligation: Mandatory.

Legal Authority: Section 9202(a)(1) of the William M. (Mac) Thornberry National Defense Authorization Act for Fiscal Year 2021, Pub. L. 116-283, 134 stat. 3388 (Jan. 1, 2021).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary of Economic Affairs, Commerce Department.

[FR Doc. 2023-16285 Filed 7-31-23; 8:45 am]

BILLING CODE 3510-60-P